DEPARTMENT OF COMMERCE

National Oceanic and Atmospheric Administration

RIN 0648-XJ79

Marine Mammals; File No. 13545

AGENCY: National Marine Fisheries Service (NMFS), National Oceanic and Atmospheric Administration (NOAA), Commerce.

ACTION: Notice; receipt of application.

SUMMARY: Notice is hereby given that Ocean Alliance, Inc. (Responsible Party: Iain Kerr), 191 Weston Road, Lincoln, MA 01773, has applied in due form for a permit to conduct research on sperm (Physeter macrocephalus), blue (Balaenoptera musculus), Bryde's (B. edeni), dwarf sperm (Kogia sima), false killer (Pseudorca crassidens), fin (B. physalus), gray (Eschrichtius robustus), humpback (Megaptera novaeangliae), killer (Orcinus orca), minke (B. acutorostrata), pilot (Globicephala spp.), pygmy sperm (K. breviceps), sei (B. borealis), southern right (Eubalaena australis), northern right (E. glacialis), Cuvier's beaked (Ziphius cavirostris), and other beaked (Mesoplodon spp.) whales, common dolphins (Delphinus delphis), as well as elkhorn (Acropora palmata) and staghorn (A. cervicornis) coral, and import specimens from these species for scientific research.

DATES: Written, telefaxed, or e-mail comments must be received on or before September 19, 2008.

ADDRESSES: The application and related documents are available for review upon written request or by appointment (See SUPPLEMENTARY INFORMATION).

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 13545.

FOR FURTHER INFORMATION CONTACT: Amy Hapeman or Amy Sloan, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

Ocean Alliance proposes to conduct research over a five-year period to determine contaminant levels and culture cells from cetaceans and coral while concurrently collecting data on abundance, movement and distribution patterns, habitat use, energetics, behaviors, and stock and social structures. The applicant requests authorization to conduct research during vessel surveys on live cetaceans and coral and collect tissues from dead, stranded cetaceans in U.S. waters and on the high seas. Field research activities would include biopsy sampling, collection of sloughed skin and feces, photo-identification, videography, passive acoustic recording, focal follows, and behavioral observation during vessel surveys for up to 250 sperm whales annually and 20 animals annually for each of the above remaining species, except southern right whales. The applicant would also import from foreign waters 150 sperm whale samples per year and 20 samples per year each for all other identified species. This research would help determine: (1) which classes of pollutants are elevated around the world; (2) which pollutants pose the largest risk to whales; (3) which responses made by whales to pollutants are similar to responses made by humans; (4) the locations of pollution hot spots around the world; and (5) the population and behavioral dynamics of these species. Research would occur in U.S. waters and the high seas of the Pacific and Atlantic Oceans, including the Gulf of Maine, Mexico and the Caribbean Sea, the territorial waters of Mexico, Indian Ocean, and Mediterranean Sea.

Concurrent with the publication of this notice in the Federal Register, NMFS is forwarding copies of this application to the Marine Mammal Commission and its Committee of Scientific Advisors. Documents may be reviewed in the following locations:

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)944-2200; fax (808)973-2941;

Northeast Region, NMFS, One Blackburn Drive, Gloucester, MA 01930-2298; phone (978)281-9300; fax (978)281-9394; and

Southeast Region, NMFS, 263 13th Avenue South, Saint Petersburg, Florida 33701; phone (727)824-5312; fax (727)824-5309.

Dated: August 14, 2008.
P. Michael Payne,
Chief, Permits, Conservation and Education Division, Office of Protected Resources, National Marine Fisheries Service.

[FR Doc. E8-19313 Filed 8-19-08; 8:45 am]

BILLING CODE 3510-22-S